DEPARTMENT OF EDUCATION

Advisory Committee on Student Financial Assistance: Hearing

AGENCY: Advisory Committee on Student Financial Assistance, Education.

ACTION:

Notice of upcoming hearing.

SUMMARY: This notice sets forth the schedule and proposed agenda of a forthcoming hearing of the Advisory committee on Student Financial Assistance. Individuals who will need accommodations for a disability in order to attend the hearing (i.e., interpreting services, assistive listening devices, and/or materials in alternative format) should notify the Advisory Committee no later than Tuesday, March 28, 2006, by contacting Ms. Hope Gray at (202) 219-2099 or via e-mail at Hope.Gray@ed.gov. We will attempt to meet requests after this date, but cannot guarantee availability of the requested accommodation. The hearing site is accessible to individuals with disabilities. This notice also describes the functions of the Advisory Committee. Notice of this hearing is required under Section 10(a)(2) of the Federal Advisory Committee Act. This document is intended to notify the general public.

Date and Time: Tuesday, April 4, 2006, beginning at 9 a.m. and ending at approximately 5 p.m.

ADDRESSES: The Washington Court Hotel, 525 New Jersey Avenue, NW., Executive Room, Lower Lobby Level, Washington DC 20001.

FOR FURTHER INFORMATION CONTACT: Ms. Nicole A. Barry, Deputy Director, Advisory Committee on Student Financial Assistance, Capitol Place, 80 F Street, NW., Suite 413, Washington DC 20202-7582, (202) 219-2099.

SUPPLEMENTARY INFORMATION: The Advisory Committee on Student Financial Assistance is established under Section 491 of the Higher Education Act of 1965 as amended by Public Law 100-50 (20 U.S.C. 1098). The Advisory Committee serves as an independent source of advice and counsel to the Congress and the Secretary of Education on student financial aid policy. Since its inception, the congressional mandate requires the Advisory Committee to conduct objective, nonpartisan, and independent analyses on important aspects of the student assistance programs under Title IV of the Higher Education Act, and to make recommendations that will result in the maintenance of access to postsecondary education for low- and middle income students. In addition, Congress expanded the Advisory Committee's mission in the Higher Education Amendments of 1998 to include several important areas: Access, Title IV modernization, distance education, and early information and needs assessment. Specifically, the Advisory Committee is to review, monitor and evaluate the Department of Education's progress in these areas and report recommended improvements to Congress and the Secretary.

The Advisory Committee has scheduled the hearing on Tuesday, April 4 in Washington, DC to launch its new Study on Innovative Pathways to Baccalaureate Degree Attainment (Innovative Pathways Study). This three-year initiative, which was originally included in the Senate's HEA reauthorization bill, will identify creative programs and strategies designed to increase the likelihood that students from low- and moderate-income families attain a baccalaureate degree. The Advisory Committee will focus on ways to eliminate major academic, institutional, and financial barriers facing students and families from middle school through college. Over the course of the study, the Committee will produce a series of reports that highlight promising approaches to ensure that students who aspire to such a degree move through the access and persistence pipeline in an efficient, effective, and timely manner. These reports will be designed to encourage federal, state, and institutional policymakers to embrace best practices that, over time, will narrow income-related gaps in degree completion.

The proposed agenda includes expert testimony and discussions by policymakers and representatives from state agencies, institutions, and early intervention programs who will address: (a) Innovative pathways in middle school and high school designed to increase low- and moderate-income students' chances of attaining a baccalaureate degree, (b) promising strategies for improving the transition from high school to college, including credit-based transition and dual enrollment programs, and (c) programs in higher education designed to increase the number of low- and moderate-income students that attain a bachelor's degree, including those programs to increase the rate of transfer and articulation from two-year to four-year institutions. The Advisory Committee will also conduct a roundtable discussion among Committee members and panelists on the Innovative Pathways Study, followed by a public comment session.

The Advisory Committee invites the public to submit written comments on the Innovative Pathways Study to the following e-mail address: ACSFA@ed.gov. Information regarding the Innovative Pathways Study will also be available on the Advisory Committee's Web site, http://www.ed.gov/ACSFA. We must receive your comments on or before April 3, 2006 to be included in the hearing materials; additional comments should be provided to the Committee no later than June 30, 2006.

Space for the hearing is limited and you are encourage to register early if you plan to attend. You may register by sending an e-mail to the following address: ACSFA@ed.gov or Tracy.Deanna.Jones@ed.gov. Please include your name, title, affiliation, complete address (including internet and e-mail, if available), and telephone and fax numbers. If your are unable to register electronically, you may fax your registration information to the Advisory Committee staff office at (202) 219-3032. You may also contact the Advisory Committee staff directly at (202) 219-2099. The registration deadline is Wednesday, March 29, 2006.

Records are kept for Advisory Committee proceedings, and are available for inspection at the Office of the Advisory Committee on Student Financial Assistance, Capitol Place, 80 F Street, NW.—Suite 413, Washington, DC from the hours of 9 a.m. to 5:30 p.m. Monday through Friday, except Federal holidays. Information regarding the Advisory Committee is available on the Committee's Web site, http://www.ed.gov/ACSFA.

Dated: March 8, 2006.
Dr. William J. Goggin,
Executive Director, Advisory Committee on Student Financial Assistance.

[FR Doc. 06-2405 Filed 3-13-06; 8:45 am]

BILLING CODE 4000-01-M